DEPARTMENT OF ENERGY

Office of Fossil Energy

[FE Docket Nos. 05-35-NG, et al.]

Masefield Natural Gas, Inc., et al.; Orders Granting Authority to Import and Export Natural Gas, Including the Import of Liquefied Natural Gas

AGENCY: Office of Fossil Energy, DOE.

ACTION: Notice of orders.

SUMMARY: The Office of Fossil Energy (FE) of the Department of Energy gives notice that during June 2005, it issued Orders granting authority to import and export natural gas, including the import of liquefied natural gas. These Orders are summarized in the attached appendix and may be found on the FE Web site at http://www.fe.doe.gov (select gas regulation). They are also available for inspection and copying in the Office of Natural Gas Regulatory Activities, Docket Room 3E-033, Forrestal Building, 1000 Independence Avenue, SW., Washington, DC 20585, (202) 586-9478. The Docket Room is open between the hours of 8 a.m. and 4:30 p.m., Monday through Friday, except Federal holidays.

Issued in Washington, DC, on July 20, 2005.
R.F. Corbin,
Manager, Natural Gas Regulatory Activities, Office of Oil and as Global Security and Supply, Office of Fossil Energy.

Appendix

Orders Granting Import/Export Authorizations DOE/FE Authority
Order No. | Date issued | Importer/exporter FE docket No. | Import volume | Export volume | Comments
2098 | 6-8-05 | Masefield Natural Gas, Inc., 05-35-NG | 20 Bcf |  | Import and export a combined total of natural gas from and to Canada, beginning on June 8, 2005, and extending through June 7, 2007.
2099 | 6-8-05 | Dynegy Power Marketing, Inc., 05-36-NG | 230 Bcf | 100 Bcf | Import and export natural gas from and to Canada and Mexico, beginning on June 25, 2005, and extending through June 24, 2007.
2100 | 6-8-05 | Chevron U.S.C. Inc., 05-34-NG | 200 Bcf |  | Import and export a combined total of natural gas from and to Canada, beginning on July 1, 2005, and extending through June 30, 2007.
1886-A | 6-8-05 | Chevron U.S.C. Inc., 03-41-NG |  |  | Vacate blanket import authority.
2101 | 6-9-05 | Transco Energy Marketing Company, 05-41-NG | 730 Bcf |  | Import natural gas from Canada, beginning on February 7, 2005, and extending through February 6, 2007.
2102 | 6-10-05 | Cascade Natural Gas Corporation, 05-40-NG | 200 Bcf |  | Import natural gas from Canada, beginning on July 1, 2005, and extending through June 30, 2007.
453-C | 6-24-05 | Duke Energy LNG Sales, Inc., 89-77-LNG |  |  | Vacate long-term import authority.
289-C | 6-24-05 | Duke Energy LNG Sales, Inc., 89-77-LNG |  |  | Vacate long-term import authority.
2106 | 6-24-05 | Apache Corporation, 05-43-NG | 55 Bcf |  | Import and export a combined total of natural gas from and to Canada, beginning on July 8, 2005, and extending through July 7, 2007.
334-A | 6-24-05 | Ocean State Power and Ocean State Power II |  |  | Vacate long-term import authority.
335-A | 6-24-05 | Ocean State Power and Ocean State Power II |  |  | Vacate long-term import authority.
2107 | 6-30-05 | Louis Dreyfus Energy Canada LP, 05-44-NG | 100 Bcf | 10 Bcf | Import and export a combined total of natural gas from and to Canada, beginning on August 1, 2005, and extending through July 31, 2007.

[FR Doc. 05-15207 Filed 8-1-05; 8:45 am]

BILLING CODE 6450-01-P